DEPARTMENT OF TRANSPORTATION

Research and Innovative Technology Administration

[Docket ID Number RITA 2008-0002]

Agency Information Collection; Activity Under OMB Review; Airline Service Quality Performance—Part 234

AGENCY: Research and Innovative Technology Administration (RITA), Bureau of Transportation Statistics (BTS), DOT.

ACTION: Notice.

SUMMARY: In compliance with the Paperwork Reduction Act of 1995, Public Law 104-13, the Bureau of Transportation Statistics invites the general public, industry and other governmental parties to comment on the continuing need for and usefulness of DOT requiring large certificated air carriers to file “On-Time Flight Performance Reports” and “Mishandled-Baggage Reports” pursuant to 14 CFR 234.4 and 234.6. These reports are used to monitor the quality of air service that major air carriers are providing the flying public. The Federal Aviation Administration uses the On-Time Flight Performance Reports to identify problem areas within the air traffic control system.

DATES: Written comments should be submitted by June 25, 2010.

FOR FURTHER INFORMATION CONTACT: Bernie Stankus, Office of Airline Information, RTS-42, Room E36-303, RITA, BTS, 1200 New Jersey Avenue, SE., Washington, DC 20590-0001, Telephone Number (202) 366-4387, Fax Number (202) 366-3383 or e-mail bernard.stankus@dot.gov.

Comments: Comments should identify the associated OMB approval #2138-0041 and Docket ID Number RITA 2008-0002. Persons wishing the Department to acknowledge receipt of their comments must submit with those comments a self-addressed stamped postcard on which the following statement is made: Comments on OMB #2138-0041, Docket—RITA 2008-0002. The postcard will be date/time stamped and returned.

SUPPLEMENTARY INFORMATION: OMB Approval No. 2138-0041.

Title: Airline Service Quality Performance—Part 234.

Form No.: BTS Form 234.

Type of Review: Extension of a currently approved collection.

Respondents: Large certificated air carriers that account for at least 1 percent of the domestic scheduled passenger revenues.

Number of Respondents: 18.

Number of Responses: 216.

Total Burden per Response: 20 hours.

Total Annual Burden: 4,320 hours.

Needs and Uses:

Consumer Information

Part 234 gives air travelers information concerning their chances of on-time flights and the rate of mishandled baggage by the 18 largest scheduled domestic passenger carriers.

Reducing and Identifying Traffic Delays

The Federal Aviation Administration uses part 234 data to pinpoint and analyze air traffic delays. Wheels-up and wheels-down times are used in conjunction with departure and arrival times to show the extent of ground delays. Actual elapsed flight time, wheels-down minus wheels-up time, is compared to scheduled elapsed flight time to identify airborne delays. The reporting of aircraft tail number allows the FAA to track an aircraft through the air network, which enables the FAA to study the ripple effects of delays at hub airports. The data can be analyzed for airport design changes, new equipment purchases, the planning of new runways or airports based on current and projected airport delays, and traffic levels. The identification of the reason for delays allows the FAA, airport operators, and air carriers to pinpoint delays under their control.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Anne Suissa,
Director, Office of Airline Information.

[FR Doc. 2010-9556 Filed 4-23-10; 8:45 am]

BILLING CODE 4910-HY-P